DEPARTMENT OF TRANSPORTATION

National Highway Traffic Safety Administration

[Docket No. NHTSA 2004-17678; Notice 2]

Ford Motor Company, Grant of Petition for Decision of Inconsequential Noncompliance

Ford Motor Company (Ford) determined that the certification labels on certain vehicles that it produced in 1998 through 2004 do not comply with S5.3.2 of 49 CFR 571.120, Federal Motor Vehicle Safety Standard (FMVSS) No. 120, “Tire selection and rims for motor vehicles other than passenger cars.” Pursuant to 49 U.S.C. 30118(d) and 30120(h), Ford has petitioned for a determination that this noncompliance is inconsequential to motor vehicle safety and has filed an appropriate report pursuant to 49 CFR Part 573, “Defect and Noncompliance Reports.” Notice of receipt of the petition was published with a 30-day comment period on May 24, 2004 in the Federal Register (69 FR 29627). NHTSA received one comment.

A total of approximately 908,548 model year 1999 through 2003 Ford Windstar multi-purpose passenger vehicles and approximately 86,321 model year 2004 Ford Freestar and Mercury Monterey multipurpose passenger vehicles produced between August 4, 1998 and March 24, 2004 are affected. S5.3.2 of FMVSS 120 requires that each vehicle shall identify either on the certification label or on the separate tire information label “the [rim] size designation and, if applicable, the type designation of [r]ims * * *.” The labeling on the affected vehicles does not include the rim size and type information required by S5.3.2.

Ford believes that the noncompliance is inconsequential to motor vehicle safety and that no corrective action is warranted. Ford states that the likelihood of an operator inadvertently installing an incorrect wheel on one of these vehicles is virtually nonexistent because the rim size and type information is marked on the wheels of the vehicle. Ford is not aware of any incidents relating to motor vehicle safety or any other evidence that this inadvertent omission of rim size and type data on the vehicle labeling has had a negative safety impact on the owners and/or operators of these vehicles.

One comment was received in response to the notice of receipt. The commenter, Barb Sachau of Florham Park, NJ, stated:

I do not think approval for any exemptions at all should be granted. Ford tires have received a lot of bad publicity. Therefore I do not think this exemption is in the public interest. I also think this is major and not “inconsequential.” Why would Ford all of a sudden not have this rim information—seems very strange to me. I oppose and object to this request for an exemption.

The issue raised by the commenter related to the safety of tires on Ford vehicles. However, the petition addresses omission of information pertaining to rim size and type. The agency is not aware of any recent recalls involving rims used on Ford vehicles. The issue to be considered in determining whether to grant this petition is the effect of the noncompliance on motor vehicle safety. The comment does not address this issue, and therefore is not persuasive in its argument that the petition should not be granted.

The agency agrees with Ford this noncompliance will not have an adverse effect on vehicle safety. The agency believes that the true measure of inconsequentiality to motor vehicle safety in this case is whether the rim size and type information is readily available to potential users. As Ford states, the rim size and type are marked on the wheels of the vehicle, thus providing the information needed to ensure that the vehicles are equipped with the proper rims. Ford has not received any owner or field complaints regarding the label omission, and it has corrected the problem.

In consideration of the foregoing, NHTSA has decided that the petitioner has met its burden of persuasion that the noncompliance described is inconsequential to motor vehicle safety. Accordingly, Ford's petition is granted and the petitioner is exempted from the obligation of providing notification of and a remedy for the noncompliance.

Authority: (49 U.S.C. 30118, 30120; delegations of authority at CFR 1.50 and 501.8)

Issued on: July 22, 2004.
Kenneth N. Weinstein,
Associate Administrator for Enforcement.

[FR Doc. 04-17107 Filed 7-27-04; 8:45 am]

BILLING CODE 4910-59-P